DEPARTMENT OF ENERGY

Federal Energy Regulatory Commission

Combined Notice of Filings #1

Take notice that the Commission received the following electric rate filings:

Docket Numbers: ER14-2373-001.

Applicants: Avista Corporation.

Description: Compliance filing per 35: Avista Corp OATT Order 792 Compliance Filing to be effective 12/11/2014.

Filed Date: 12/10/14.

Accession Number: 20141210-5151.

Comments Due: 5 p.m. ET 12/31/14.

Docket Numbers: ER15-297-001.

Applicants: LDVF1 TEP LLC.

Description: Tariff Amendment per 35.17(b): Supplement to MBR Filing to be effective 1/1/2015.

Filed Date: 12/8/14.

Accession Number: 20141208-5349.

Comments Due: 5 p.m. ET 12/29/14.

Docket Numbers: ER15-567-001.

Applicants: NiGen, LLC.

Description: Tariff Amendment per 35.17(b): Amendment to Baseline Filing to be effective 1/1/2015.

Filed Date: 12/10/14.

Accession Number: 20141210-5112.

Comments Due: 5 p.m. ET 12/26/14.

Docket Numbers: ER15-602-000.

Applicants: PJM Interconnection, L.L.C.

Description: § 205(d) rate filing per 35.13(a)(2)(iii): Service Agreement No. 4063—Queue Position Y2-078 to be effective 11/8/2014.

Filed Date: 12/10/14.

Accession Number: 20141210-5005.

Comments Due: 5 p.m. ET 12/31/14.

Docket Numbers: ER15-603-000.

Applicants: Southwest Power Pool, Inc.

Description: § 205(d) rate filing per 35.13(a)(2)(iii): 2827R2 Kansas Power Pool & Westar Meter Agent Agreement to be effective 12/1/2014.

Filed Date: 12/10/14.

Accession Number: 20141210-5043.

Comments Due: 5 p.m. ET 12/31/14.

Docket Numbers: ER15-604-000.

Applicants: PacifiCorp.

Description: § 205(d) rate filing per 35.13(a)(2)(iii): BPA Two-Way Operation and Maintenance Agreement 5th Revised to be effective 2/9/2015.

Filed Date: 12/10/14.

Accession Number: 20141210-5102.

Comments Due: 5 p.m. ET 12/31/14.

Docket Numbers: ER15-605-000.

Applicants: Solea PJM, LLC.

Description: Initial rate filing per 35.12 Solea PJM, LLC Application for MBR Authority to be effective 2/1/2015.

Filed Date: 12/10/14.

Accession Number: 20141210-5152.

Comments Due: 5 p.m. ET 12/31/14.

Docket Numbers: ER15-606-000.

Applicants: Palo Duro Wind Interconnection Services.

Description: Compliance filing per 35: Palo Duro Wind Interconnection Services, LLC SFA Compliance Filing to be effective 10/22/2014.

Filed Date: 12/10/14.

Accession Number: 20141210-5153.

Comments Due: 5 p.m. ET 12/31/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2014.
Nathaniel J. Davis, Sr.,
Deputy Secretary.

[FR Doc. 2014-29526 Filed 12-16-14; 8:45 am]

BILLING CODE 6717-01-P